DEPARTMENT OF ENERGY

Federal Energy Regulatory Commission

Combined Notice of Filings

Take notice that the Commission has received the following Natural Gas Pipeline Rate and Refund Report filings:

Filings Instituting Proceedings

Docket Numbers: RP14-1252-000.

Applicants: Mex Gas Supply, S.L., Comisión Federal de Electricidad.

Description: Joint Petition for Temporary Waivers of Capacity Release Regulations and Related Pipeline Tariff Provisions and Request for Expedited Consideration of Mex Gas Supply, S.L., et. al.

Filed Date: 9/8/14.

Accession Number: 20140908-5150.

Comments Due: 5 p.m. ET 9/22/14.

Docket Numbers: RP14-1253-000.

Applicants: Transcontinental Gas Pipe Line Company.

Description: § 4(d) rate filing per 154.204: Clean Up Filing to be effective 10/9/2014.

Filed Date: 9/8/14.

Accession Number: 20140908-5163.

Comments Due: 5 p.m. ET 9/22/14.

Docket Numbers: RP14-1254-000.

Applicants: WBI Energy Transmission, Inc.

Description: § 4(d) rate filing per 154.204: Fuel Footnote to be effective 9/8/2014.

Filed Date: 9/8/14.

Accession Number: 20140908-5165.

Comments Due: 5 p.m. ET 9/22/14.

Docket Numbers: RP14-1255-000.

Applicants: WBI Energy Transmission, Inc.

Description: § 4(d) rate filing per 154.204: Non-conforming Service Agreements—Garden Creek II to be effective 9/8/2014.

Filed Date: 9/8/14.

Accession Number: 20140908-5172.

Comments Due: 5 p.m. ET 9/22/14.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

Filings in Existing Proceedings

Docket Numbers: RP14-540-001.

Applicants: Paiute Pipeline Company.

Description: Compliance filing per 154.203: Motion to Place Tariff Sheets to be effective 9/1/2014.

Filed Date: 9/8/14.

Accession Number: 20140908-5200.

Comments Due: 5 p.m. ET 9/22/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated September 9, 2014.
Nathaniel J. Davis, Sr.,
Deputy Secretary.

[FR Doc. 2014-21978 Filed 9-15-14; 8:45 am]

BILLING CODE 6717-01-P